DEPARTMENT OF TRANSPORTATION

Federal Aviation Administration

14 CFR Part 39

[Docket No. FAA-2013-0215; Directorate Identifier 2012-NM-132-AD; Amendment 39-18665; AD 2016-19-16]

RIN 2120-AA64

Airworthiness Directives; The Boeing Company Airplanes

AGENCY: Federal Aviation Administration (FAA), DOT.

ACTION: Final rule.

SUMMARY: We are adopting a new airworthiness directive (AD) for certain The Boeing Company Model 707-300, 707-300B, and 707-300C series airplanes; and certain Model 727C, 727-100C, and 727-200F series airplanes. This AD was prompted by a report indicating that a cam latch on the main cargo door (MCD) broke during flight. This AD requires various inspections and related investigative and corrective actions, if necessary. We are issuing this AD to address the unsafe condition on these products.

DATES: This AD is effective January 9, 2017.

The Director of the Federal Register approved the incorporation by reference of certain publications listed in the AD as of January 9, 2017.

ADDRESSES: For service information identified in this final rule, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2013-0215.

Examining the AD Docket

You may examine the AD docket on the Internet at http://www.regulations.gov by searching for and locating Docket No. FAA-2013-0215; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Patrick Farina, Aerospace Engineer, Cabin Safety Branch, ANM-150L, FAA, Los Angeles Aircraft Certification Office (ACO), 3960 Paramount Boulevard, Lakewood, CA 90712-4137; phone: 562-627-5344; fax: 562-627-5210; email: patrick.farina@faa.gov.

SUPPLEMENTARY INFORMATION:

Discussion

We issued a notice of proposed rulemaking (NPRM) to amend 14 CFR part 39 to include an AD that would apply to certain The Boeing Company Model 707-300, 707-300B, and 707-300C series airplanes; and certain Model 727C, 727-100C, and 727-200F series airplanes. The NPRM published in the Federal Register on March 28, 2013 (78 FR 18922) (“the NPRM”). The NPRM was prompted by a report indicating that a cam latch on the MCD broke during flight. The NPRM proposed to require performing repetitive inspections of the MCD cam latches; replacing cam latches, certain bolts, and door hinge fittings; performing related investigative and corrective actions, if necessary; and rigging the MCD. We are issuing this AD to detect and correct discrepancies of the cam latches, latch pins, and latch pin cross bolts, which could reduce the structural integrity of the MCD, and result in potential loss of the cargo door and rapid decompression of the airplane.

Actions Since the NPRM Was Issued

Since we issued the NPRM, we have reviewed Boeing 707 Alert Service Bulletin A3536, Revision 1, dated September 16, 2015 (for Model 707-300, 707-300B, and 707-300C series airplanes); and Boeing Alert Service Bulletin 727-52A0150, Revision 1, dated November 5, 2015 (for Model 727C, 727-100C, and 727-200F series airplanes). (We referred to Boeing 707 Alert Service Bulletin A3536, dated February 6, 2012; and Boeing Alert Service Bulletin 727-52A0150, dated January 30, 2012; as the appropriate sources of service information for accomplishing the actions specified in the NPRM.)

Boeing 707 Alert Service Bulletin A3536, Revision 1, dated September 16, 2015; and Boeing Alert Service Bulletin 727-52A0150, Revision 1, dated November 5, 2015; clarify the inspection conditions and the corrective actions for certain conditions. Certain inspections of the cam latches and latch pins were changed from detailed inspections to general visual inspections. Also, a detailed inspection of mating parts and immediately adjacent cam latches and latch pins for any cracks or any gouges in critical areas was added to certain corrective actions specified in the service information.

Also, the corrective actions for latch pin extensions that are between 0.84 and 0.89 inch or between 0.91 and 0.94 inch were changed. Boeing 707 Alert Service Bulletin A3536, Revision 1, dated September 16, 2015; and Boeing Alert Service Bulletin 727-52A0150, Revision 1, dated November 5, 2015; specify replacement of any discrepant latch pin and a detailed inspection of the mating cam latch for any cracks or gouges in lieu of the repetitive detailed inspections described in Boeing 707 Alert Service Bulletin A3536, dated February 6, 2012; and Boeing Alert Service Bulletin 727-52A0150, dated January 30, 2012.

Explanation of Certain Changes to This AD

In light of the issuance of the revised service information discussed previously, we have revised paragraphs (c), (g), and (h) of this AD to refer to Boeing 707 Alert Service Bulletin A3536, Revision 1, dated September 16, 2015; and Boeing Alert Service Bulletin 727-52A0150, Revision 1, dated November 5, 2015. We have also added new paragraph (l) of this AD to give credit for doing actions before the effective date of this AD using Boeing 707 Alert Service Bulletin A3536, dated February 6, 2012; and Boeing Alert Service Bulletin 727-52A0150, dated January 30, 2012. In addition, we have removed the Optional Terminating Action, which was paragraph (m) in the proposed AD, and moved that information into paragraph (g)(2) of this AD to align with the revised service information. We have redesignated subsequent paragraphs accordingly.

In addition, since certain inspections and conditions were revised in Boeing 707 Alert Service Bulletin A3536, Revision 1, dated September 16, 2015; and Boeing Alert Service Bulletin 727-52A0150, Revision 1, dated November 5, 2015; we have revised the description of the actions required by this AD to correspond with the terminology used in Boeing 707 Alert Service Bulletin A3536, Revision 1, dated September 16, 2015; and Boeing Alert Service Bulletin 727-52A0150, Revision 1, dated November 5, 2015. As a result, certain paragraphs in the proposed AD have been rearranged, and the corresponding paragraph identifiers have been redesignated in this AD, as listed in the following table:

Revised Paragraph Identifiers
Action in the NPRM | Corresponding requirement in this AD
paragraph (g) | paragraph (g)(1).
paragraph (h) | paragraph (g)(2).
paragraph (i) | paragraph (h).
paragraph (j) | paragraph (h).
paragraph (k) | paragraph (k).
paragraph (l) | paragraph (i).
paragraph (m) | paragraph (g)(2).
paragraph (n) | paragraph (j).

We have also revised the Costs of Compliance section in this final rule to reflect the number of work-hours specified in Boeing 707 Alert Service Bulletin A3536, Revision 1, dated September 16, 2015; and Boeing Alert Service Bulletin 727-52A0150, Revision 1, dated November 5, 2015. We have also included the costs for the repetitive inspections required before the MCD rigging check as well as replacement of the alloy cross bolts; these costs were inadvertently omitted from the NPRM. In addition, we have included the costs for the concurrent actions in Boeing 707/720 Service Bulletin 3477, Revision 2, dated April 15, 1993; and Boeing Service Bulletin 727-52-0142, Revision 2, dated April 15, 1993.

Comments

We gave the public the opportunity to participate in developing this AD. The following presents the comments received on the NPRM and the FAA's response to each comment.

FedEx Express had no objection to the NPRM.

Request for Clarification of Requirements

Boeing stated that it was difficult to align the requirements proposed in paragraphs (g), (h), (i), (j) and (l) of the proposed AD with the actions described in Boeing 707 Alert Service Bulletin A3536, dated February 6, 2012; and Boeing Alert Service Bulletin 727-52A0150, dated January 30, 2012. Boeing commented that it is not clear which requirements in the proposed AD go with which section of table 1 and table 2 in paragraph 1.E., “Compliance,” of Boeing Alert Service Bulletin 727-52A0150, dated January 30, 2012. Boeing expressed concern that the proposed AD does not include all of the items in paragraph 1.E., “Compliance,” of Boeing Alert Service Bulletin 727-52A0150, dated January 30, 2012. Boeing suggested that the proposed AD be rewritten so operators are not confused with unclear compliance requirements, which might cause situations of non-compliance.

Boeing also requested that paragraphs (h)(1), (h)(2), (h)(3)(i), and (h)(3)(ii) of the proposed AD be rewritten to improve clarity because words were omitted that might lead to confusion or misinterpretation of the requirements in the proposed AD.

We agree that the description of the parts to be inspected and the required tasks should be consistent throughout this final rule and should match what is described in the Boeing service information. With the exception of paragraph (l)(2) of this AD, we are requiring only actions that are described in Boeing 707 Alert Service Bulletin A3536, Revision 1, dated September 16, 2015; and Boeing Alert Service Bulletin 727-52A0150, Revision 1, dated November 5, 2015. We have revised paragraphs (g), (h), (i), and (j) of this AD accordingly.

For clarity we have moved the “Concurrent Actions” paragraph of the proposed AD (paragraph (l) of the proposed AD) before the “Exceptions to Service Information Specifications” paragraph (paragraph (k) of the proposed AD). In this AD, the “Concurrent Actions” paragraph is redesignated as paragraph (i) of this AD.

Request To Revise Intervals for Repetitive Inspections

The United States Air Force Joint STARS (Joint STARS) program stated that its concern is that the NPRM addresses only airplanes that are frequently used to haul cargo. For operators that do not haul cargo and typically only open the MCD for C-check inspections, the general visual inspections required every 330 flight cycles or 150 days is excessive. This commenter stated that these repetitive inspections do not fit into the current Joint STARS maintenance program and would result in airplane downtime and additional cost. This commenter noted that detailed inspections every 3,000 flight cycles or 24 months, and high frequency eddy current (HFEC) inspections every 6,000 flight cycles or 48 months, would fit into its current maintenance schedule and not cause a significant impact.

We agree that the required intervals for repetitive inspections may not be appropriate for some operators because they infrequently use the cargo door. However, we disagree with revising the intervals for the repetitive inspections required by this AD. We need to evaluate the requests for different inspection intervals on a case-by-case basis, based on the operator and its use of the MCD. Operators may request a change in the intervals for the repetitive inspections by following the procedures in paragraph (m) of this AD and requesting approval of an alternative method of compliance.

We also note that the FAA has limited oversight of public aircraft operations (PAO). The government entity conducting the PAO is responsible for oversight of the operations, including aircraft airworthiness.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under1 CFR Part 51

We reviewed Boeing 707 Alert Service Bulletin A3536, Revision 1, dated September 16, 2015; and Boeing Alert Service Bulletin 727-52A0150, Revision 1, dated November 5, 2015. This service information describes procedures for doing a general visual inspection for broken or missing cam latches, latch pins, and latch pin cross bolts; torqueing the cross bolts in the latch pins; measuring the extension of the latch pins; replacing all alloy steel cross bolts through the latch pins with CRES cross bolts; doing a general visual inspection of all cam latches for lip deformation; doing a HFEC or magnetic particle inspection of cam latch 1 and cam latch 2 for cracks and replacing all cracked or broken parts; checking the rig of the MCD and re-rigging as applicable; and doing related investigative and corrective actions. This service information also describes procedures for doing repetitive inspections for certain conditions specified in the service information, which terminate after the MCD rigging is done as specified in this service information. This service information also describes procedures for doing MCD post-rigging inspections and corrective actions. These service bulletins are distinct because they apply to different airplane models.

We also reviewed Boeing 707/720 Service Bulletin 3477, Revision 2, dated April 15, 1993; and Boeing Service Bulletin 727-52-0142, Revision 2, dated April 15, 1993. This service information describes procedures for doing general a general visual inspection of the hinge fittings and the cam latches on the MCD, and related investigative and corrective actions. These service bulletins are distinct because they apply to different airplane models.

This service information is reasonably available because the interested parties have access to it through their normal course of business or by the means identified in the ADDRESSES section.

Costs of Compliance

We estimate that this AD affects 18 airplanes of U.S. registry.

We estimate the following costs to comply with this AD:

Estimated Costs
Action | Labor cost | Parts cost | Cost per product | Cost on U.S. operators
Inspection/torque/measurement | 4 work-hours × $85 per hour = $340 | $0 | $340 | $6,120.
Repetitive inspections pre-MCD rigging | Up to 3 work-hours × $85 per hour = $255 per inspection cycle | $0 | Up to $255 per inspection cycle | Up to $4,590 per inspection cycle.
MCD rigging/adjustment | 48 work-hours × $85 per hour = $4,080 | Up to $8,821 ¹ | Up to $12,901 | Up to $232,218.
Replacement of alloy cross bolts | 1 work-hour × $85 per hour = $85 | $0 | $85 | $1,530.
Repetitive inspections post-MCD rigging | 3 work-hours × $85 = $255 per inspection cycle | $0 | $255 per inspection cycle | $4,590 per inspection cycle.
Concurrent ² inspection | 8 work-hours × $85 per hour = $680 | $0 | $680 | $12,240.
¹ Special tooling is available from the airplane manufacturer; $8,821 is the purchase price and $180 per day is the rental rate.
² The concurrent inspection is required by AD 91-22-04, Amendment 39-8064 (56 FR 55223, October 25, 1991).

We estimate the following costs to do any necessary related investigative actions and certain replacements that will be required based on the results of the inspections. We have no way of determining the number of aircraft that might need these actions:

On-Condition Costs
Action | Labor cost | Parts cost | Cost per product
Related investigative actions | Up to 3 work-hours × $85 per hour = $255 | $0 | Up to $255.
Replacement of broken/missing parts | 1 work-hour × $85 per hour = $85 per latch/pin | $0 | $85 per latch/pin.
Concurrent replacement ¹ | 26 work-hours × $85 = $2,210 | $15,324 | $17,534.
¹ The concurrent replacement of parts is required by AD 91-22-04, Amendment 39-8064 (56 FR 55223, October 25, 1991).

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-19-16 The Boeing Company: Amendment 39-18665; Docket No. FAA-2013-0215; Directorate Identifier 2012-NM-132-AD.

(a) Effective Date

This AD is effective January 9, 2017.

(b) Affected ADs

None.

(c) Applicability

The Boeing Company airplanes, certificated in any category, as identified in paragraphs (c)(1) and (c)(2) of this AD.

(1) Model 707-300, 707-300B, and 707-300C series airplanes, as identified in Boeing 707 Alert Service Bulletin A3536, Revision 1, dated September 16, 2015.

(2) Model 727C, 727-100C, and 727-200F series airplanes, as identified in Boeing Alert Service Bulletin 727-52A0150, Revision 1, dated November 5, 2015.

(d) Subject

Air Transport Association (ATA) of America Code 52, Doors.

(e) Unsafe Condition

This AD was prompted by a report that a cam latch on the main cargo door (MCD) broke during flight. We are issuing this AD to detect and correct discrepancies of the cam latches, latch pins, and latch pin cross bolts. Such discrepancies could reduce the structural integrity of the MCD, and result in potential loss of the cargo door and rapid decompression of the airplane.

(f) Compliance

Comply with this AD within the compliance times specified, unless already done.

(g) MCD Pre-Rig Inspections, Bolt Torque, Latch Pin Measurement, Cross Bolt Replacement, and Related Investigative and Corrective Actions

(1) Except as provided by paragraph (k)(l) of this AD, at the applicable times specified in table 1 of paragraph 1.E., “Compliance,” of Boeing 707 Alert Service Bulletin A3536, Revision 1, dated September 16, 2015 (for Model 707-300, 707-300B, and 707-300C series airplanes); or Boeing Alert Service Bulletin 727-52A0150, Revision 1, dated November 5, 2015 (for Model 727C, 727-100C, and 727-200F series airplanes): Do the actions specified in paragraphs (g)(1)(i) through (g)(1)(iv) of this AD in accordance with the Accomplishment Instructions of Boeing 707 Alert Service Bulletin A3536, Revision 1, dated September 16, 2015 (for Model 707-300, 707-300B, and 707-300C series airplanes); or Boeing Alert Service Bulletin 727-52A0150, Revision 1, dated November 5, 2015 (for Model 727C, 727-100C, and 727-200F series airplanes).

(i) A general visual inspection of the MCD for broken or missing cam latches, latch pins, and latch pin cross bolts.

(ii) Torque the cross bolts in the latch pins.

(iii) Measure the extension of the latch pins.

(iv) Perform a general visual inspection of all cam latches for lip deformation.

(2) Except as required by paragraph (k)(2) of this AD, after accomplishing the actions specified in paragraphs (g)(1)(i) through (g)(1)(iv) of this AD: Do all applicable related investigative and corrective actions, replace all alloy steel cross bolts through the latch pins with corrosion resistant steel (CRES) cross bolts, repeat the applicable inspections, and do the check of the MCD rig and the latch mechanism adjustment test, at the applicable times and intervals specified in table 1 of paragraph 1.E., “Compliance,” and in accordance with the Accomplishment Instructions of Boeing 707 Alert Service Bulletin A3536, Revision 1, dated September 16, 2015 (for Model 707-300, 707-300B, and 707-300C series airplanes); or Boeing Alert Service Bulletin 727-52A0150, Revision 1, dated November 5, 2015 (for Model 727C, 727-100C, and 727-200F series airplanes). Accomplishment of the check of the MCD rig terminates the repetitive inspections required by this paragraph.

(h) MCD Post-Rigging Inspections and Corrective Actions

(1) Except as required by paragraph (k)(2) of this AD: At the applicable times specified in table 2 of paragraph 1.E., “Compliance,” of Boeing Alert Service Bulletin Boeing 707 Alert Service Bulletin A3536, Revision 1, dated September 16, 2015 (for Model 707-300, 707-300B, and 707-300C series airplanes); or Boeing Alert Service Bulletin 727-52A0150, Revision 1, dated November 5, 2015 (for Model 727C, 727-100C, and 727-200F series airplanes): Do general visual inspections for any broken or missing cam latches, latch pins, and latch pin cross bolts; a detailed inspection of the cam latches and latch pins for any cracks, or any gouges in critical areas; and an HFEC or magnetic particle inspection of cam latch 1 and cam latch 2 for cracks in critical areas; and do all applicable corrective actions; in accordance with the Accomplishment Instructions of Boeing 707 Alert Service Bulletin A3536, Revision 1, dated September 16, 2015 (for Model 707-300, 707-300B, and 707-300C series airplanes); or Boeing Alert Service Bulletin 727-52A0150, Revision 1, dated November 5, 2015 (for Model 727C, 727-100C, and 727-200F series airplanes). Do all applicable corrective actions before further flight.

(2) Repeat the inspections required by paragraph (h)(1) of this AD at the applicable times specified in table 2 of paragraph 1.E., “Compliance,” of Boeing 707 Alert Service Bulletin A3536, Revision 1, dated September 16, 2015 (for Model 707-300, 707-300B, and 707-300C series airplanes); or Boeing Alert Service Bulletin 727-52A0150, Revision 1, dated November 5, 2015 (for Model 727C, 727-100C, and 727-200F series airplanes).

(i) Concurrent Actions

(1) For airplanes identified in Boeing 707 Alert Service Bulletin A3536, Revision 1, dated September 16, 2015: Before or concurrently with accomplishment of the general visual inspections specified in paragraphs (g)(1)(i) and (g)(1)(iv) of this AD, do a general visual inspection of the hinge fittings and the cam latches on the MCD, and perform related investigative and corrective actions as applicable, in accordance with the Accomplishment Instructions of Boeing 707/720 Service Bulletin 3477, Revision 2, dated April 15, 1993.

(2) For airplanes identified in Boeing Alert Service Bulletin 727-52A0150, Revision 1, dated November 5, 2015: Before or concurrently with accomplishment of the general visual inspections specified in paragraphs (g)(1)(i) and (g)(1)(iv) of this AD, do a general visual inspection of the hinge fittings and the cam latches on the MCD, and perform related investigative and corrective actions as applicable, in accordance with the Accomplishment Instructions of Boeing Service Bulletin 727-52-0142, Revision 2, dated April 15, 1993.

(j) Parts Installation Prohibition

As of the effective date of this AD, no person may install an alloy steel bolt as a cross bolt through any latch pin fitting assembly in the lower sill of the MCD on any airplane.

(k) Exceptions to Service Information Specifications

The following exceptions apply to this AD.

(1) Where Boeing 707 Alert Service Bulletin A3536, Revision 1, dated September 16, 2015 (for Model 707-300, 707-300B, and 707-300C series airplanes); or Boeing Alert Service Bulletin 727-52A0150, Revision 1, dated November 5, 2015 (for Model 727C, 727-100C, and 727-200F series airplanes); specifies a compliance time relative to the issue date of that service bulletin, this AD requires compliance within the specified compliance time after the effective date of this AD.

(2) Where Boeing 707 Alert Service Bulletin A3536, Revision 1, dated September 16, 2015 (for Model 707-300, 707-300B, and 707-300C series airplanes); or Boeing Alert Service Bulletin 727-52A0150, Revision 1, dated November 5, 2015 (for Model 727C, 727-100C, and 727-200F series airplanes); specifies to contact Boeing for appropriate action: At the applicable time specified in paragraph 1.E., “Compliance,” of Boeing 707 Alert Service Bulletin A3536, Revision 1, dated September 16, 2015 (for Model 707-300, 707-300B, and 707-300C series airplanes); or Boeing Alert Service Bulletin 727-52A0150, Revision 1, dated November 5, 2015 (for Model 727C, 727-100C, and 727-200F series airplanes); repair using a method approved in accordance with the procedures specified in paragraph (m) of this AD.

(l) Credit for Previous Actions

This paragraph provides credit for the corresponding actions required by paragraphs (g) and (h) of this AD, if those actions were done before the effective date of this AD using Boeing 707 Alert Service Bulletin A3536, dated February 6, 2012 (for Model 707-300, 707-300B, and 707-300C series airplanes); or Boeing Alert Service Bulletin 727-52A0150, dated January 30, 2012 (for Model 727C, 727-100C, and 727-200F series airplanes).

(m) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (n)(1) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Los Angeles ACO, to make those findings. To be approved, the repair method, modification deviation, or alteration deviation must meet the certification basis of the airplane and the approval must specifically refer to this AD.

(n) Related Information

(1) For more information about this AD, contact Patrick Farina, Aerospace Engineer, Cabin Safety Branch, ANM-150L, FAA, Los Angeles ACO, 3960 Paramount Boulevard, Lakewood, CA 90712-4137; phone: 562-627-5344; fax: 562-627-5210; email: patrick.farina@faa.gov.

(2) Service information identified in this AD that is not incorporated by reference is available at the addresses specified in paragraphs (o)(3) and (o)(4) of this AD.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing 707 Alert Service Bulletin A3536, Revision 1, dated September 16, 2015.

(ii) Boeing Alert Service Bulletin 727-52A0150, Revision 1, dated November 5, 2015.

(iii) Boeing 707/720 Service Bulletin 3477, Revision 2, dated April 15, 1993.

(iv) Boeing Service Bulletin 727-52-0142, Revision 2, dated April 15, 1993.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 14, 2016.
Michael Kaszycki,
Acting Manager, Transport Airplane Directorate, Aircraft Certification Service.

[FR Doc. 2016-28337 Filed 12-2-16; 8:45 am]

BILLING CODE 4910-13-P